DEPARTMENT OF HOUSING AND URBAN DEVELOPMENT

[Docket No. FR-6080-D-01]

Revocation of Delegation of Authority to the Chief Operations Officer

AGENCY: Office of the Deputy Secretary, HUD.

ACTION: Notice of revocation of delegation of authority.

SUMMARY: Through this notice, the Deputy Secretary revokes authority previously delegated to the Chief Operations Officer in a notice published in the Federal Register on May 11, 2015.

DATES: Applicable Date: January 5, 2018.

FOR FURTHER INFORMATION CONTACT: John B. Shumway, Assistant General Counsel for Administrative Law, Office of General Counsel, Department of Housing and Urban Development, 451 7th Street SW, Room 9262, Washington, DC 20410-0500, telephone number 202-402-5190. (This is not a toll-free number.) Individuals with speech or hearing impairments may access this number through TTY by calling 1-800-877-8339.

SUPPLEMENTARY INFORMATION: Offices previously supervised by the Chief Operations Officer are supervised by the Assistant Secretary for Administration and the Deputy Secretary. By separate notice, the Deputy Secretary has delegated to the Assistant Secretary for Administration authority to coordinate, manage and supervise the activities of the offices of the Chief Human Capital Officer, the Chief Procurement Officer, and the Chief Administrative Officer. The Chief Information Officer reports directly to the Deputy Secretary.

Authority Superseded

This Delegation revokes the May 11, 2015 Delegation of Authority to the Chief Operations Officer, which was published in the Federal Register at 80 FR 26946.

Authority: Section 7(d), Department of Housing and Urban Development Act (42 U.S.C. 3535(d)).

Dated: January 5, 2018.
Pamela H. Patenaude,
Deputy Secretary.

[FR Doc. 2018-01499 Filed 1-25-18; 8:45 am]

BILLING CODE 4210-67-P